DEPARTMENT OF THE INTERIOR

Fish and Wildlife Service

Notice of Receipt of Application for Endangered Species Permit

AGENCY: Fish and Wildlife Service, Interior.

ACTION: Notice of receipt.

SUMMARY: The following applicant has applied for a permit to conduct certain activities with an endangered species. This notice is provided pursuant to section 10(c) of the Endangered Species Act of 1973, as amended (16 U.S.C. 1531 et seq.).

DATES: Written data or comments on this application must be received at the address given below by May 1, 2003.

ADDRESSES: Documents and other information submitted with this application are available for review by any party who submits a written request for a copy of such documents to the following office within 30 days of the date of publication of this notice: U.S. Fish and Wildlife Service, 300 Westgate Center Drive, Hadley, Massachusetts 01035. Attention: Diane Lynch, Regional Endangered Species Permits Coordinator, telephone: 413-253-8628; facsimile: 413-253-8482.

FOR FURTHER INFORMATION CONTACT: Diane Lynch, telephone: 413-253-8628; facsimile: 413-253-8482.

SUPPLEMENTARY INFORMATION: You are invited to comment on an application received from York University, Department of Biology, Toronto, Ontario, Canada, PRT-TE068166-0. The application requests authorization to take (harm) Karner blue butterfly (Lycaeides melissa samuelis) eggs and/or larvae from Saratoga County, New York; Lake and Porter Counties, Indiana; and Manistee, Wexford, Mason, Lake, Oceana, and Newaygo Counties, Michigan. This project may result in accidental injury or death of Karner blue butterfly eggs and/or larvae through unavoidable foot traffic when conducting field work. The applicant's objectives are to access the quality of potential reintroduction sites in Ontario, Canada; to identify the most suitable Karner blue butterfly source sites in the United States; and to compare the effect of different management methods by comparing vegetation structures of sites managed under different strategies. None of the proposed activities involves collection of Karner blue butterflies.

Dated: March 7, 2003.
Mamie A. Parker,
Regional Director.

[FR Doc. 03-7740 Filed 3-31-03; 8:45 am]

BILLING CODE 4310-55-M